DEPARTMENT OF HEALTH AND HUMAN SERVICES

Food and Drug Administration

[Docket No. FDA-2008-N-0038]

Advisory Committees; Tentative Schedule of Meetings for 2009

AGENCY: Food and Drug Administration, HHS.

ACTION: Notice.

SUMMARY: The Food and Drug Administration (FDA) is announcing a tentative schedule of forthcoming meetings of its public advisory committees for 2009. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Theresa L. Green, Advisory Committee Oversight and Management Staff (HF-4), Food and Drug Administration, 5600 Fishers Lane, Rockville, MD 20857, 301-827-1220.

SUPPLEMENTARY INFORMATION: The IOM, at the request of the Commissioner, undertook a study of the use of the FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Internet site located at http://www.fda.gov/oc/advisory/default.htm. FDA will continue to publish a Federal Register notice 15 days in advance of each upcoming advisory committee meeting, to announce the meeting (21 CFR 14.20).

The following list announces FDA's tentatively scheduled advisory committee meetings for 2009. You may also obtain up-to-date information by calling the Advisory Committee Information Line, 1-800-741-8138 (301-443-0572 in the Washington, DC area).

Committee Name | Tentative Date of Meeting(s) | Advisory Committee 10-Digit Information Line Code
OFFICE OF THE COMMISSIONER
Pediatric Advisory Committee | March 23-24, June 22-23, September 21-22, December 7-8 | 8732310001
Risk Communication Advisory Committee | February 26-27, April 30-May 1, August 13-14, November 12-13 | 8732112560
Science Board to the Food and Drug Administration | February 24, May 18, August 17, November 16 | 3014512603
CENTER FOR BIOLOGICS EVALUATION AND RESEARCH
Allergenic Products Advisory Committee | March 5, October 22 | 3014512388
Blood Products Advisory Committee | January 9, April 1, July 20-21, November 16-17 | 3014519516
Cellular, Tissue and Gene Therapies Advisory Committee | May 14-15, November 5-6 | 3014512389
Transmissible Spongiform Encephalopathies Advisory Committee | To be announced | 3014512392
Vaccines and Related Biological Products Advisory Committee | February 18-19, May 20-21, September 23-24, November 18-19 | 3014512391
CENTER FOR DRUG EVALUATION AND RESEARCH
Anesthetic and Life Support Drugs Advisory Committee | January 29-30, April dates to be announced | 3014512529
Anti-Infective Drugs Advisory Committee | To be announced | 3014512530
Antiviral Drugs Advisory Committee | To be announced | 3014512531
Arthritis Advisory Committee | March 5, June 16-17, October 27-28 | 3014512532
Cardiovascular and Renal Drugs Advisory Committee | February 3, March 18-19, July 28-29, December 7-8 | 3014512533
Dermatologic and Ophthalmic Drugs Advisory Committee | To be announced | 3014512534
Drug Safety and Risk Management Advisory Committee | January 30, April dates to be announced | 3014512535
Endocrinologic and Metabolic Drugs Advisory Committee | April 2-3 | 3014512536
Gastrointestinal Drugs Advisory Committee | February 17 | 3014512538
Nonprescription Drugs Advisory Committee | April dates to be announced | 3014512541
Oncologic Drugs Advisory Committee | February 25, March 24-25, May dates to be announced, July 14-15, September 15-16, December 16-17 | 3014512542
Peripheral and Central Nervous System Drugs Advisory Committee | January 7-8 | 3014512543
Pharmaceutical Science and Clinical Pharmacology, Advisory Committee for | March dates to be announced | 3014512539
Psychopharmacologic Drugs Advisory Committee | March 26 | 3014512544
Pulmonary-Allergy Drugs Advisory Committee | February 4 | 3014512545
Reproductive Health Drugs, Advisory Committee for | May and August dates to be announced | 3014512537
CENTER FOR DEVICES AND RADIOLOGICAL HEALTH
Device Good Manufacturing Practice Advisory Committee | April 15, October 5-6 | 3014512398
Medical Devices Advisory Committee (Comprised of 18 Panels)
Anesthesiology and Respiratory Therapy Devices Panel | February 5, April 30, July 23, September 17, November 12 | 3014512624
Circulatory System Devices Panel | February 25, May 27, September 24 | 3014512625
Clinical Chemistry and Clinical Toxicology Devices Panel | March 18-19, June 17-18, October 21-22 | 3014512514
Dental Products Panel | February 11, May 6, June 17, September 16, December 9 | 3014512518
Ear, Nose, and Throat Devices Panel | February 24, May 19, August 18, November 17 | 3014512522
Gastroenterology-Urology Devices Panel | March 20, October 15 | 3014512523
General and Plastic Surgery Devices Panel | February 26-27, June 9-10, October 15-16 | 3014512519
General Hospital and Personal Use Devices Panel | March 25-26, July 29-30, October 21-22 | 3014512520
Hematology and Pathology Devices Panel | April 24, July 17, October 23 | 3014512515
Immunology Devices Panel | October 15-16 | 3014512516
Medical Devices Dispute Resolution Panel | Meetings occur as needed | 3014510232
Microbiology Devices Panel | February 24-25, September 22-23, October 27-28 | 3014512517
Molecular and Clinical Genetics Panel | April 15, October 5-6 | 3014510231
Neurological Devices Panel | February 26-27, May 14-15, September 17-18, December 2-3 | 3014512513
Obstetrics and Gynecology Devices Panel | February 5-6, May 14-15, August 13-14, November 12-13 | 3014512524
Ophthalmic Devices Panel | February 12-13, May 14-15, September 24-25,November 19-20 | 3014512396
Orthopaedic and Rehabilitation Devices Panel | February 3-4, April 14-15, June 9-10, August 11-12, October 15-16, December 1-2 | 3014512521
Radiological Devices Panel | February 18, May 12, August 4, November 17 | 3014512526
National Mammography Quality Assurance Advisory Committee | November 4-5 | 3014512397
Technical Electronic Product Radiation Safety Standards Committee | No meeting tentatively scheduled for 2009 | 3014512399
CENTER FOR FOOD SAFETY AND APPLIED NUTRITION
Food Advisory Committee | May 20-21 | 3014510564
CENTER FOR VETERINARY MEDICINE
Veterinary Medicine Advisory Committee | April 14 | 3014512548
NATIONAL CENTER FOR TOXILOGICAL RESEARCH (NCTR)
Science Advisory Board to NCTR | November 17-18 | 3014512559

Dated: December 24, 2008.
Randall W. Lutter,
Deputy Commissioner for Policy.

[FR Doc. E9-451 Filed 1-12-09; 8:45 am]

BILLING CODE 4160-01-S